DEPARTMENT OF TRANSPORTATION

Federal Aviation Administration

[Docket No. FAA-2020-0926]

Agency Information Collection Activities: Requests for Comments; Clearance of Clearance of a Renewed Approval of Information Collection: Notice of Proposed Outdoor Laser Operation(s)

AGENCY: Federal Aviation Administration (FAA), DOT

ACTION: Notice and request for comments.

SUMMARY: In accordance with the Paperwork Reduction Act of 1995, FAA invites public comments about our intention to request the Office of Management and Budget (OMB) approval to renew an information collection. The Federal Register Notice with a 60-day comment period soliciting comments on the following collection of information was published on January 29, 2021. The collection involves the gathering of information necessary for FAA to ensure proposed outdoor laser operations will not interfere with air traffic operations. The information to be collected will be used by FAA to evaluate proposed outdoor laser operations (e.g., laser light show, display, or device) requiring approval of a Food and Drug Administration (FDA) variance.

DATES: Written comments should be submitted by May 21, 2021.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Brian Konie, Rules and Regulations Group, Office of Policy, by email at: brian.konie@faa.gov; phone: 202-267-8783.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0662.

Title: Notice of Proposed Outdoor Laser Operation(s).

Form Numbers: FAA Form 7140-1.

Type of Review: Renewal of an information collection.

Background: The Federal Register Notice with a 60-day comment period soliciting comments on the following collection of information was published on January 29, 2021 (86 FR 7611).

No laser light show, projection system, or device may vary from compliance with 21 CFR 1040.11(c) in design or use without the approval of an application for variance in accordance with 21 CFR 1010.4. Those applying for an FDA variance (using and per FDA Form 3147), must make advance written notification as early as possible to FAA for any projections into open airspace at any time. To notify FAA of a proposed outdoor laser operation, proponents complete and submit FAA Form 7140-1, Notice of Proposed Outdoor Laser Operation(s), to FAA. FAA Form 7140-1 is the approved method for collecting information required to process submissions from proponents intending to project into open airspace.

FAA received one comment from two contributing authors. The comment supported past changes made to the technical aspects of FAA Form 7140-1 and raised multiple points with suggestions to improve, notably: Defining regulatory authority, when to submit a form, combining the form within another document, and clarifying language on the form. FAA appreciates the time taken by the authors to comment, acknowledges the suggestions, and intends to revise FAA Form 7140-1 to improve clarity.

Respondents: Approximately 603 laser operations.

Frequency: One time per laser operation.

Estimated Average Burden per Response: Approximately 240 minutes or 4 hours per form.

Estimated Total Annual Burden: Approximately 2,412 hours.

Issued in Washington, DC, on April 15, 2021.
George Gonzalez,
Acting Manager, Rules and Regulations Group.

[FR Doc. 2021-08136 Filed 4-20-21; 8:45 am]

BILLING CODE P